FEDERAL COMMUNICATIONS COMMISSION

Sunshine Act Meeting

October 5, 2000.

Open Commission Meeting, Thursday, October 12, 2000

The Federal Communications Commission will hold an Open Meeting on the subjects listed below on Thursday, October 12, 2000, which is scheduled to commence at 9:30 a.m. in Room TW-C305, at 445 12th Street, SW., Washington, DC.

1. Office of Engineering and Technology and Wireless Telecommunications

Title: Amendment of the Commission's Rules with Regard to the 3650-3700 MHz Government Transfer Band (ET Docket No. 98-237, RM-9411); and The 4.9 GHz Band Transferred from Federal Government Use (WT Docket No. 00-32).

Summary: The Commission will consider a First Report and Order to reallocate the 3650-3700 MHz and the 4.9 GHz band transferred from Government to non-Govenrment use.

2. Common Carrier

Title: 2000 Biennial Regulatory Review—Comprehensive Review of the Accounting Requirements and ARMIS Reporting Requirements for Incumbent Local Exchange Carriers: Phase 2 and Phase 3.

Summary: The Commission will consider a Notice of Proposed Rule Making concerning issues regarding the accounting rules and ARMIS reporting requirements for incumbent local exchange carriers.

3. Wireless TeleCommunications

Title: Promotion of Competitive Networks in Local Telecommunications Markets (WT Docket No. 99-217); Wireless Communications Association International, Inc., Petition for Rule Making to Amend Section 1.400 of the Commission's Rules to Preempt Restrictions on Subscriber Premises Reception or Transmission Antennas Designed to provide Fixed Wireless Services; Implementation of the Local Competition Provisions in the Telecommunications Act of 1996 (CC Docket No. 96-98); and Review of Sections 68.104, and 68.213 of the Commission's Rules Concerning Connection of Simple Inside Wiring to Telephone Network (CC Docket No. 88-57).

Summary: The Commission will consider a First Report and Order and Further Notice of Proposed Rule Making in WT Docket No. 99-217, a Fourth Report and Order and Memorandum Opinion and Order in CC Docket No. 96-98, and a Memorandum Opinion and Order in CC Docket No. 88-57), regarding obstacles to consumer's choice of telecommunications providers in multiple tenant environments.

4. Office of General Counsel

Title: Amendment of Section 19.735-203 of the Commission's Rules Concerning Nonpublic Information.

Summary: The Commission will consider an Order governing the misuse of nonpublic information (47 CFR 19.735-203).

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their Internet address is http://www.itsdocs.com/

This meeting can be viewed over George Mason University's Capitol Connection. The Capitol Connection also will carry the meeting live via the Internet. For information on these services call (703) 993-3100. The audio portion of the meeting will be broadcast live on the Internet via the FCC's Internet audio broadcast page at <http://www.fcc.gov/realaudio/>. The meeting can also be heard via telephone, for a fee, from National Narrowcast network, telephone (202) 966-2211 or fax (202) 966-1770. Audio and video tapes of this meeting can be purchased from Infocus, 341 Victory Drive, Herndon, VA 20170, telephone (703) 834-0100; fax number (703) 834-0111.

Federal Communications Commission.
William F. Caton,
Deputy Secretary.

[FR Doc. 00-26186 Filed 10-6-00; 1:19 pm]

BILLING CODE 6712-01-M